DEPARTMENT OF DEFENSE

Department of the Air Force

Notice is Given as a Reminder of the U.S. Air Force Scientific Advisory Board Notice of Meeting

AGENCY: Air Force Scientific Advisory Board, Department of the Air Force, DoD.

ACTION: Federal Registrar meeting notice.

SUMMARY: The United States Air Force Scientific Advisory Board plans to hold its Summer Session Board meeting on June 15th, 2017. Portions of this meeting will be open to the public.

DATES: Effective Date: The meeting date is June 15, 2017, from 8:00 a.m. to 4:00 p.m.

SUPPLEMENTARY INFORMATION: Under the provisions of the Federal Advisory Committee Act of 1972 (5 U.S.C., Appendix, as amended), the Government in the Sunshine Act of 1976 (5 U.S.C. 552b, as amended), and 41 CFR 102-3.150, the Department of Defense announces the United States Air Force (USAF) Scientific Advisory Board (SAB) Summer Board meeting will take place on 15 June 2017 at the Beckman Center of The National Academies of Science and Engineering, located at 100 Academy Drive, Irvine, California 92617. The purpose of this quarterly board meeting is to formally complete, outbrief, and receive majority approval for the content and recommendations contained in the SAB FY17 SAB studies. The meeting will occur from 8:00 a.m.-4:00 p.m. on Thursday, 15 June 2017. The session that will be open to the general public will be held from 8:30 a.m. to 9:30 a.m. on 15 June 2017. In accordance with 5 U.S.C. 552b, as amended, and 41 CFR 102-3.155, a number of sessions of the Air Force Scientific Advisory Board Summer Board meeting will be closed to the general public because they will discuss classified information and matters covered by Section 552b of Title 5, United States Code, subsection (c), subparagraph (1).

Any member of the public that wishes to attend this meeting or provide input to the Air Force Scientific Advisory Board must contact the Scientific Advisory Board meeting organizer at the phone number or email address listed in this announcement at least five working days prior to the meeting date. Please ensure that you submit your written statement in accordance with 41 CFR 102-3.140(c) and section 10(a)(3) of the Federal Advisory Committee Act. Statements being submitted in response to the agenda mentioned in this notice must be received by the Scientific Advisory Board meeting organizer at least five calendar days prior to the meeting commencement date. The Scientific Advisory Board meeting organizer will review all timely submissions and respond to them prior to the start of the meeting identified in this notice. Written statements received after this date may not be considered by the Scientific Advisory Board until the next scheduled meeting.

FOR FURTHER INFORMATION: The Scientific Advisory Board meeting organizer, Major Mike Rigoni at michael.j.rigoni.mil@mail.mil or 703-695-4297, United States Air Force Scientific Advisory Board, 1500 West Perimeter Road, Ste. #3300, Joint Base Andrews, MD 20762.

Anh Trinh,
Air Force Federal Register Liaison Officer.

[FR Doc. 2017-09775 Filed 5-12-17; 8:45 am]

BILLING CODE 5001-10-P